DEPARTMENT OF ENERGY

Federal Energy Regulatory Commission

Combined Notice of Filings #1

Take notice that the Commission received the following electric corporate filings:

Docket Numbers: EC16-176-000.

Applicants: Mankato Energy Center, LLC, Southern Power Company.

Description: Joint Application of Mankato Energy Center, LLC, et al. for Authorization Under Section 203 of the Federal Power Act for Disposition of Jurisdictional Facilities and Requests for Waivers, Expedited Action, and Confidential Treatment.

Filed Date: 9/1/16.

Accession Number: 20160901-5242.

Comments Due: 5 p.m. ET 9/22/16.

Take notice that the Commission received the following electric rate filings:

Docket Numbers: ER16-2539-000.

Applicants: PJM Interconnection, L.L.C.

Description: Section 205(d) Rate Filing: Revisions to OATT Schedule 12—Appdx A re: RTEP Approved by the Board in Aug 2016 to be effective11/30/2016.

Filed Date: 9/1/16.

Accession Number: 20160901-5239.

Comments Due: 5 p.m. ET 9/22/16.

Docket Numbers: ER16-2540-000.

Applicants: PJM Interconnection, L.L.C.

Description: Notice of Cancellation of Service Agreement No. 1571, Queue No. M23 of PJM Interconnection, L.L.C.

Filed Date: 9/1/16.

Accession Number: 20160901-5241.

Comments Due: 5 p.m. ET 9/22/16.

Docket Numbers: ER16-2541-000.

Applicants: Pioneer Wind Park I, LLC.

Description: Baseline eTariff Filing: Pioneer Wind Park I, LLC MBR Tariff to be effective 9/3/2016.

Filed Date: 9/2/16.

Accession Number: 20160902-5076.

Comments Due: 5 p.m. ET 9/23/16.

Docket Numbers: ER16-2542-000.

Applicants: Public Service Company of New Mexico.

Description: Compliance filing: Order Nos. 827 and 828 Single Combined Compliance Filing to be effective9/21/2016.

Filed Date: 9/2/16.

Accession Number: 20160902-5111.

Comments Due: 5 p.m. ET 9/23/16.

Docket Numbers: ER16-2543-000.

Applicants: Midcontinent Independent System Operator, Inc.

Description: Section 205(d) Rate Filing: 2016-09-02_SA 2946 MidAmerican-MidAmerican E&P (J498) to be effective 9/2/2016.

Filed Date: 9/2/16.

Accession Number: 20160902-5147.

Comments Due: 5 p.m. ET 9/23/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 2, 2016.
Nathaniel J. Davis, Sr.,
Deputy Secretary.

[FR Doc. 2016-21683 Filed 9-8-16; 8:45 am]

BILLING CODE 6717-01-P